DEPARTMENT OF STATE

[Public Notice: 7438]

Bureau of Educational and Cultural Affairs (ECA) Request for Grant Proposals; International Visitor Leadership Program Assistance Award

Announcement Type: New Cooperative Agreement.

Funding Opportunity Number: ECA/PE/V-12-01.

Catalog of Federal Domestic Assistance Number: 19.402.

Key Dates: October 1, 2011—September 30, 2012.

Application Deadline: June 17, 2011.

Executive Summary: The Office of International Visitors, Bureau of Educational and Cultural Affairs (ECA/PE/V), United States Department of State (DoS), announces an open competition for up to four assistance awards to administer the International Visitor Leadership Program (IVLP). The IVLP is the U.S. Department of State's premier professional exchange program. Launched in 1940, the IVLP is a professional exchange program that seeks to build mutual understanding between the U.S. and other nations through carefully designed short-term visits to the U.S. for current and emerging foreign leaders. These visits reflect the International Visitors' professional interests and support the foreign policy goals of the United States.

The amount of funding available is approximately $4,700,000, pending the availability of FY 2012 funds. ECA anticipates awarding up to four cooperative agreements for the total funding available. The assistance awards, all together, will support programming for approximately 2,000 International Visitors (IVs). Public and private non-profit organizations meeting the provisions described in Internal Revenue Code section 26 U.S.C. 501(c)(3) may submit proposals. Applicants may submit only one proposal under this competition. If multiple proposals are received from the same applicant, all submissions will be declared ineligible and receive no further consideration in the review process.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The International Visitor Leadership Program seeks to increase mutual understanding between the U.S. and foreign publics through carefully designed professional programs. IVLP projects support U.S. foreign policy objectives. Participants are current or potential foreign leaders in government, politics, media, education, science, non-government organizations (NGOs), the arts, and other key fields. They are selected by officers of U.S. embassies overseas and are approved by the DoS staff in Washington, DC. Since the program's inception in 1940, there have been nearly 200,000 distinguished participants in the program. More than 320 program alumni subsequently became heads of state or government in their home countries. All IVLP projects maintain a non-partisan character.

The Bureau seeks proposals from nonprofit organizations for development and implementation of professional programs for Bureau-sponsored International Visitors to the U.S. Once the awards are made, separate proposals will be required for each group project [Single Country (SCP), Sub-Regional (SRP), Regional (RP), and Multi-Regional (MRP)] as well as less formal proposals for Individual and Individuals Traveling Together (ITT) and Voluntary Visitors (Volvis) programs. Each program will be focused on a substantive theme. Some typical IVLP projects themes are: (1) U.S. foreign policy; (2) U.S. government and political system; (3) economic development; (4) education; (5) media; (6) interfaith dialogue; (7) freedom of information; (8) NGO management; (9) women's issues; (10) tolerance and diversity; (11) counterterrorism; (12) democracy and human rights; (13) rule of law; (14) international crime; and (15) environmental issues. IVLP projects must conform to all Bureau requirements and guidelines. Please refer to the Program Objectives, Goals, and Implementation (POGI) document for a more detailed description of each type of IVLP program.

Guidelines: Goals and objectives for each specific IVLP projects will be shared with the award recipients at an appropriate time following the announcement of the assistance awards. DoS will provide close coordination and guidance throughout the duration of the awards. Award recipients will consult closely with the responsible ECA/PE/V Program Officer throughout the development, implementation, and evaluation of each IVLP projects. Prospective program agencies should demonstrate the potential to develop the following types of programs.

1. Programs must contain substantive meetings that focus on foreign policy goals and program objectives and are presented by experts. Meetings, site visits, and other program activities should promote dialogue between participants and their U.S. professional counterparts. Programs must be balanced to show different sides of an issue.

2. Most programs will be three weeks long and will begin in Washington, DC, with an orientation and overview of the issues and a central examination of Federal policies regarding these issues. Well-paced program itineraries usually include visits to four or five communities. Program itineraries ideally include urban and rural small communities in diverse geographical and cultural regions of the U.S., as appropriate to the program theme.

3. Programs should provide opportunities for participants to experience the diversity of American society and culture. Participants in RPs or MRPs are divided into smaller sub-groups for simultaneous visits to different communities, with subsequent opportunities to share their experiences with the full group once it is reunited.

4. Programs should provide opportunities for the participants to share a meal or similar experience (home hospitality) in the homes of Americans of diverse occupational, age, gender, and ethnic groups. Some individual and group programs might include an opportunity for an overnight stay (home stay) in an American home.

5. Programs should provide opportunities for participants to address student, civic and professional groups in relaxed and informal settings.

6. Participants should have appropriate opportunities for site visits and hands-on experiences that are relevant to program themes. The award recipients may propose professional “shadowing” experiences with U.S. professional colleagues for some programs (a typical shadowing experience means spending a half- or full-workday with a professional counterpart.)

7. Programs should also allow time for participants to reflect on their experiences and, in group programs, to share observations with program colleagues. Participants should have opportunities to visit cultural and tourist sites.

8. The award recipients must make arrangements for community visits through affiliates of the National Council for International Visitors (NCIV). In cities where there is no such council, the award recipients will arrange for coordination of local programs.

Qualifications

1. Proposals must demonstrate a minimum of four years of successful experience in coordinating international exchanges.

2. Proposals must demonstrate the ability to develop and administer IVLP programs.

3. Proposals must demonstrate an applicant's broad knowledge of international relations and U.S. foreign policy issues.

4. Proposals must demonstrate an applicant's broad knowledge of the United States and U.S. domestic issues.

5. Award recipients must have a Washington, DC presence. Applicants who do not currently have a Washington, DC presence must include a detailed plan in their proposal for establishing such a presence by October 1, 2011. The costs related to establishing such a presence must be borne by the award recipient. No such costs may be included in the budget submission in this proposal. The award recipient must have e-mail capability, access to Internet resources, and the ability to exchange data electronically with all partners involved in the International Visitor Leadership Program.

6. Proposals must demonstrate that an applicant has an established resource base of programming contacts and the ability to keep this resource base continuously updated. This resource base should include speakers, thematic specialists, or practitioners in a wide range of professional fields in both the private and public sectors.

7. All proposals must demonstrate sound financial management.

8. All proposals must contain a sound management plan to carry out the volume of work outlined in the Project Objectives, Goals, and Implementation guidelines (POGI). This plan should include an appropriate staffing pattern and a work plan/timeframe.

9. Applicant organizations must include a proposed budget and identify the number of visitors the proposed funding levels will support.

10. Proposals must describe capacity to employ additional staff during particularly busy months of the IVLP cycle and to assume additional projects, if requested. The proposed budget should also include a separate budget spreadsheet for any supplemental program team(s) proposed.

11. Include a separate plan for how your organization can feasibly implement a direct billing payment system with hotels in Washington, DC and across the U.S. for all IVLP projects by FY 2014. This proposal should include a detailed timeline, staffing requirements, and total costs involved over time. The plan should identify any proposed savings to the United States Government anticipated from implementing a direct billing payment system.

12. Applicants must include in their proposal narrative a discussion of “lessons learned” from past exchange coordination experiences, and how these will be applied in implementing the International Visitor Leadership Program.

13. Award recipients must have the capability to utilize the World Wide Web for the electronic retrieval of program data from the Department of State's IVLP Web site. The award recipient's office technology must be capable of exchanging information with all partners involved in the International Visitor Leadership Program. The award recipient must have the capability to electronically communicate through eNPA (Electronic National Program Agency), the software application that allows award recipients to share information and data electronically through the Department of State's Exchange Visitor Database (EVDB-e) and with the Councils for International Visitors (CIVs), as well as to produce a national program book and other supporting documents (e.g., appointment requests and confirmations, participant welcome letters, and mailing labels) generated directly into Microsoft Word.

14. Applicants must include as a separate attachment under TAB G of their proposals the following:

a. Samples of at least two schedules for international exchange or training programs that they have coordinated within the past four years that they are particularly proud of and that they feel demonstrate their organization's competence and abilities to conduct the activities outlined in the RFGP;

b. Samples of orientation and NPA self-evaluation materials used in past international exchange or training programs.

Requirements for Past Performance References

In addition to Letters of Endorsement, DoS will also use past performance as an indicator of an applicant's ability to successfully perform the work. TAB E of the proposal must contain any letters of endorsement and between three and five references who may be called upon to discuss recently completed or ongoing work performed for professional exchange programs (which may include the IVLP). The reference must contain the information outlined below. Please note that the requirements for submission of past performance information also apply to all proposed sub-recipients when the total estimated cost of the sub-award is over $100,000.

At a minimum, the applicant must provide the following information for each reference:

• Name of the reference organization.

• Project name.

• Project description.

• Performance period of the contract/grant.

• Amount of the contract/grant.

• Technical contact person and telephone number for referenced organization.

• Administrative contact person and telephone number for referenced organization.

DoS may contact representatives from the organizations cited in the examples to obtain information on the applicant's past performance. DoS also may obtain past performance information from sources other than those identified by the applicant.

Personnel: Applicants must include complete and current resumes of the key personnel who will be involved in the program management, design, and implementation of IVLP programs. Each resume is limited to no more than two pages per person.

Budget Guidelines

Applicants are required to submit a comprehensive line-item administrative budget in accordance with the instructions in the Solicitation Package (Proposal Submission Instructions). The submission must include a summary budget and a detailed budget showing all administrative costs. Proposed staffing and costs associated with staffing must be appropriate to the requirements outlined in the RFGP and in the Solicitation Package. Cost sharing is encouraged and should be shown in the budget presentation.

The Department of State is seeking proposals from public and private nonprofit organizations that are not already in communication with DoS regarding an FY-2012 assistance award from ECA/PE/V. In a cooperative agreement, ECA is substantially involved in program activities above and beyond routine monitoring. All applicants must have a minimum of four years' experience conducting international exchanges, an ability to closely consult with DoS staff throughout program administration, and proven fiscal management integrity. Please refer to the Solicitation Package for complete budget guidelines and formatting instructions.

The Bureau of Educational and Cultural Affairs, as sponsor and manager of the International Visitor Leadership Program, plays a significant role in the planning, implementation, and evaluation of all types of International Visitor Leadership Programs and is responsible for all communication with overseas missions. The Bureau will provide close coordination and guidance throughout the duration of the awards. Award recipients will consult closely with the responsible ECA/PE/V Program Officer throughout the development, implementation, and evaluation of each IVLP projects.

All liaisons shall be with the designated elements of the DoS relative to the following responsibilities incurred by the recipient under this agreement:

A. Program Administration—Bureau of Educational and Cultural Affairs, Office of International Visitors, Community Resources Division, ECA/PE/V/C.

B. Financial—Bureau of Educational and Cultural Affairs, Grants Division, ECA-IIP/EX/G.

II. Award Information

Type of Award: Cooperative Agreement.

ECA's level of involvement in this program is listed under number I above.

Fiscal Year Funds: FY 2012.

Approximate Total Funding: $4,700,000.

Approximate Number of Awards: Up to four.

Approximate Average Award: $986,464.

Floor of Award Range: $630,000.

Ceiling of Award Range: $2,700,000.

Anticipated Award Date: Pending availability of funds, October 1, 2011.

Anticipated Project Completion Date: September 30, 2012.

Additional Information

Pending successful implementation of this program and the availability of funds in subsequent fiscal years, it is ECA's intent to renew this grant or cooperative agreement for five additional fiscal years, before openly competing it again.

III. Eligibility Information

III.1. Eligible Applicants

Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Bureau grant guidelines require that organizations with less than four years experience in conducting international exchanges be limited to $60,000 in Bureau funding. ECA anticipates awarding up to four cooperative agreements, of which the minimum award will be $630,000. Therefore, organizations with less than four years experience in conducting international exchanges are ineligible to apply under this competition. The Bureau encourages applicants to provide maximum levels of cost sharing and funding in support of its programs.

(b) Technical Eligibility: All proposals must comply with the technical eligibility requirements specified in the Proposal Submission Instructions (PSI) and the Project Objectives, Goals, and Implementation (POGI) documents. Failure to do so will result in proposals being declared technically ineligible and given no further consideration in the review process.

Eligible applicants may not submit more than one proposal in this competition.

—If more than one proposal is received from the same applicant, all submissions will be declared technically ineligible and will receive no further consideration in the review process. Please note: Applicant organizations are defined by their legal name and EIN number as stated on their completed SF-424 and additional supporting documentation outlined in the Proposal Submission Instructions (PSI) document.

IV. Application and Submission Information:

Note: Please read the complete announcement before sending inquiries or submitting proposals. Once the RFGP deadline has passed, Bureau staff may not discuss this competition with applicants until the proposal review process has been completed.

IV.1 Contact Information to Request an Application Package

Please contact the Office of International Visitors, ECA/PE/V, SA-5, 3rd Floor, U.S. Department of State, 2200 C Street, NW., Washington, DC 20037, (202)632-3288, or e-mail JohnsonPA2@state.gov to request a Solicitation Package. Please refer to the Funding Opportunity Number ECA/PE/V-12-01 located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Patricia Johnson and refer to the Funding Opportunity Number ECA/PE/V-12-01 located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. All Federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, recordkeeping, reporting and other requirements. The Office of International Visitors (ECA/PE/V) will be responsible for issuing DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Successful monitoring and evaluation depend heavily on setting clear goals and outcomes at the outset of a program. In support of the Bureau's evaluation goals, the Office of International Visitors will administer a post-program evaluation for International Visitors upon conclusion of Regional and Multi-Regional programs.

In addition, applicants must monitor and evaluate the program's success, both as activities unfold and at the end of each program. (See Project Objectives, Goals and Implementation (POGI) document.) Proposal submissions should include a monitoring and evaluation plan that demonstrates: An understanding of overall IVLP goals, as well as the objectives of assigned projects; the anticipated results and outcomes, including specific changes in International Visitors' behavior, knowledge, skills, and status resulting from the program activities; and the link between the outcomes and the original project objectives.

Proposals should further demonstrate how applicants will obtain an understanding of the goals and objectives of each assigned IVLP program, and how applicants will review and analyze the outcomes and results upon conclusion of each IVLP program. For regional and multi-regional programs, participation at a final oral evaluation session is expected and a final program report is required. (See Project Objectives, Goals and Implementation (POGI) document.) Proposal submissions should demonstrate how award recipients will apply the feedback provided by International Visitors to strengthen the overall goals and objectives of the International Visitor Leadership Program.

IV.3d.4. Alumni Outreach Follow On Programming

No alumni outreach follow-on programming is expected or will be funded. However, the Bureau expects that all recipient organization(s) will encourage and assist participants in registering and using the State Alumni Web site (alumni.state.gov) and the Exchanges Connect Web site (connect.state.gov) at multiple points during their exchange experience, at a minimum during program orientations and pre-departure briefings as well as at the end of programs to encourage participants to create groups and/or forums on exchanges connect. Proposals should detail how the Web sites will be promoted to exchange participants and how the recipient organization (s) will facilitate participant registration. The Bureau expects that all recipient organization (s) will place a link to both State Alumni and Exchanges Connect on their own Web sites. IV.3e.1 Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs for the program include the following:

(1) Staff Salaries and Benefits;

(2) Office and Program Supplies;

(3) Telephone and Communications;

(4) Staff Travel and Per Diem;

(5) ADP Equipment Maintenance and IT Costs;

(6) Indirect Costs.

Please refer to the Solicitation Package for complete budget guidelines and formatting instructions.

IV.3f. Application Deadline and Methods of Submission

Application Deadline Date: June 17, 2011.

Reference Number: ECA/PE/V-12-01.

Methods of Submission

Applications may be submitted in one of two ways:

(1) In hard-copy, via a nationally recognized overnight delivery service (i.e., Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 10 copies of the application should be sent to: Program Management Division, ECA-IIP/EX/PM, Ref.: ECA/PE/V-12-01, SA-5, Floor 4, Department of State, 2200 C Street, NW., Washington, DC 20037.

Applicants submitting hard-copy applications must also submit the “Executive Summary” and “Proposal Narrative” sections of the proposal in text (.txt) or Microsoft Word format on CD-ROM. As appropriate, the Bureau will provide these files electronically to Public Affairs Section(s) at the U.S. embassy(ies) for its(their) review.

IV.3f.2—Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support. Contact Center Phone: 800-518-4726. Business Hours: Monday-Friday, 7AM-9PM Eastern Time, E-mail: support@grants.gov.

Applicants have until midnight (12:00 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards cooperative agreements resides with the Bureau's Grants Officer.

Review Criteria

Technically eligible applications will be competitively reviewed according to the criteria stated below. These criteria are not rank ordered and all carry equal weight in the proposal evaluation:

1. Evidence of Understanding/Program Planning: The proposal should convey that the applicant has a good understanding of the overall goals and objectives of the IVLP. It should exhibit originality, substance, and precision, and be responsive to the requirements stated in the RFGP and the Solicitation Package. The proposal should contain a detailed and relevant work plan that demonstrates substantive intent and logistical capacity. The agenda and plan should adhere to the program overview and guidelines described in the RFGP and the POGI.

2. Support of Diversity: Proposals should demonstrate substantive support of the Bureau's policy on diversity. Achievable and relevant features should be cited in both program administration (selection of program resources and interlocutors, program venue, etc.) and program content (orientation and wrap-up sessions, program meetings, resource materials and follow-up activities).

3. Institutional Capacity: The award recipient must have a Washington, DC presence. Applicants who do not currently have a Washington, DC presence must include a detailed plan in their proposal for establishing such a presence by October 1, 2011. The costs related to establishing such a presence must be borne by the award recipient. No such costs may be included in the budget submission in this proposal. The proposal should clearly demonstrate the applicant's capability for performing the type of work required by the IVLP and how the institution will execute its program activities to meet the goals of the IVLP. It should reflect the applicant's ability to design and implement, in a timely and creative manner, professional exchange programs which encompass a variety of project themes. Proposed personnel and institutional resources should be adequate and appropriate to achieve the program goals. The proposal must demonstrate that the applicant has or can recruit adequate and well-trained staff. All recipients must submit their IVLP and national itinerary data electronically to the DoS by utilizing either the eNPA tool provided by the Department or the mandated standard data format submission that has been established as an interface to existing legacy systems.

4. Institution's Record/Ability: The proposal should demonstrate an institutional record of a minimum of four years of successful experience in conducting IVLP or other professional exchange programs, which are similar in nature and magnitude to the scope of work outlined in this solicitation. The applicant must demonstrate the potential for programming IVLP participants from multiple regions of the world. Applicants should demonstrate that their organizations would consult with DoS Program Officers on a regular basis to ensure that the assigned visitor projects would consistently meet program objectives. Proposals should demonstrate an institutional record of successful exchange programs, including responsible fiscal management and full compliance with all reporting requirements for past Bureau cooperative agreements as determined by Bureau Grants Staff. The Bureau will consider the past performance of prior recipients and the demonstrated potential of new applicants.

5. Project Evaluation: While program agencies do not have sole responsibility for program evaluation, proposals should describe how the program agency will evaluate the activity's success, both as the activities unfold and through required reporting at the conclusion of a group program, and address how lessons learned will be incorporated in future program planning. A description of the methodology to be used to link outcomes to original project objectives is recommended.

6. Cost-effectiveness: The overhead and administrative components of the proposal, including salaries and honoraria, should be kept as low as possible. This includes acquiring and retaining capable staff. All other costs, such as building maintenance, should be necessary and appropriate.

7. Cost-sharing: Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b The following additional requirements apply to this project:

For assistance awards involving Iran:

A critical component of current U.S. government Iran policy is the support for indigenous Iranian voices. The State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. 2339A and 2339B; Executive Order 13224; and Homeland Security Presidential Directive 6. These licensing conditions mandate that the Department conduct a vetting of potential Iran grantees and sub-grantees for counter-terrorism purposes. To conduct this vetting the Department will collect information from grantees and sub-grantees regarding the identity and background of their key employees and Boards of Directors.

Note: To assure that planning for the inclusion of Iran complies with requirements, please contact Patricia Johnson, Office of International Visitors, by e-mail JohnsonPA2@state.gov for additional information.

Prohibition on the use of Federal Funds to Promote, Support, or advocate for the legalization or practice of Prostitution.

The U.S. Government is opposed to prostitution and related activities, which are inherently harmful and dehumanizing, and contribute to the phenomenon of trafficking in persons. None of the funds made available under this agreement may be used to promote, support, or advocate the legalization or practice of prostitution. Nothing in the preceding sentence shall be construed to preclude assistance designed to ameliorate the suffering of, or health risks to, victims while they are being trafficked or after they are out of the situation that resulted from such victims being trafficked.

The recipient shall insert the foregoing provision in all sub-agreements under this award.

This provision includes express terms and conditions of the agreement and any violation of it shall be grounds for unilateral termination of the agreement by the Department of State prior to the end of its term.

For assistance awards involving the Palestinian Authority, West Bank, and Gaza:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Patricia Johnson, Office of International Visitors, by e-mail JohnsonPA2@state.gov for additional information.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://fa.statebuy.state.gov.

VI.3. Reporting Requirements: You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Quarterly financial reports within thirty (30) days following the end of the calendar year quarter. These reports should itemize separately International Visitor costs, Voluntary Visitor costs, English Language Officer/Interpreter costs for International Visitors, English Language Officer/Interpreter costs for Voluntary Visitors, special project costs by projects, and administrative costs for the previous quarter on a cash basis. These reports should also list separately the number of English Language Officers/Interpreters accompanying International Visitors, and the number of English Language Officers/Interpreters accompanying Voluntary Visitors for whom funds are expended. Quarterly financial reports must be certified by the award recipient's chief financial officer or an officer of comparable rank. For further information, please refer to the Project Objectives, Goals, and Implementation (POGI) document.

Award recipients will be required to provide reports analyzing their evaluation findings to the Bureau in their regular program reports. [Please refer to IV. Application and Submission Instructions (IV.3.d.3) above for Program Monitoring and Evaluation information.]

All data collected, including survey responses and contact information, must be maintained for a minimum of three years and provided to the Bureau upon request.

All reports must be sent to the ECA Grants Officer and ECA Program Officer listed in the final assistance award document.

VII. Agency Contacts

For questions about this announcement, contact: Patricia Johnson, U.S. Department of State, Office of International Visitors, ECA/PE/V, SA-5, 3rd Floor, ECA/PE/V-12-01, 2200 C Street, NW., Washington, DC 20037, telephone (202) 632-3288 and fax (202) 632-9393, or e-mail JohnsonPA2@state.gov.

All correspondence with the Bureau concerning this RFGP should reference the above title and number ECA/PE/V-12-01.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 26, 2011.
J. Adam Ereli,
Principal Deputy Assistant Secretary, Bureau of Educational and Cultural Affairs, U.S. Department of State.

[FR Doc. 2011-10770 Filed 5-4-11; 8:45 am]

BILLING CODE 4710-05-P